DEPARTMENT OF COMMERCE

National Oceanic and Atmospheric Administration

50 CFR Part 679

[Docket No. 000211039-0039-01; I.D. 041200A]

Fisheries of the Exclusive Economic Zone Off Alaska, Pacific Cod in the Gulf of Alaska

AGENCY: National Marine Fisheries Service (NMFS), National Oceanic and Atmospheric Administration (NOAA), Commerce.

ACTION: Apportionment of reserve.

SUMMARY: NMFS is apportioning the initial reserve of Pacific cod in the Gulf of Alaska (GOA). This action is necessary to allow incidental catch of Pacific cod to be retained in other directed fisheries and to account for previous harvest of the total allowable catch (TAC) in the GOA.

This action is necessary to meet the objectives in the Magnuson-Stevens Fishery Conservation and Management Act (Magnuson-Stevens Act), and is intended to further the goals and objectives of the Fishery Management Plan for Groundfish of the Gulf of Alaska (FMP).

DATES: Effective 1200 hrs, Alaska local time (A.l.t.), April 19, 2000, until 2400 hrs, A.l.t., December 31, 2000. Comments must be received by May 4, 2000.

ADDRESSES: Comments may be sent to Sue Salveson, Assistant Administrator for Fisheries, Sustainable Fisheries Division, Alaska Region, NMFS, 709 West 9th Street, Room 453, Juneau, AK 99801 or P.O. Box 21668, Juneau, AK 99802-1668, Attn: Lori Gravel. Hand delivery or courier delivery of comments may be sent to the Federal Building, 709 West 9th St., Room 453, Juneau, AK 99801. Comments will not be accepted if submitted via e-mail or Internet.

FOR FURTHER INFORMATION CONTACT: Thomas Pearson, (907)481-1780, fax (907)481-1781, or tom.pearson@noaa.gov.

SUPPLEMENTARY INFORMATION: NMFS manages the groundfish fishery in the GOA exclusive economic zone according to the FMP prepared by the North Pacific Fishery Management Council under authority of the Magnuson-Stevens Fishery Conservation and Management Act. Regulations governing fishing by U.S. vessels in accordance with the FMP appear at subpart H of 50 CFR part 600 and 50 CFR part 679.

The initial TAC of Pacific cod in the Western, Central, and Eastern Regulatory Areas of the GOA was established by the Final 2000 Harvest Specifications for Groundfish of the GOA (65 FR 8298, February 18, 2000) as 16,500 metric tons (mt), 27,264 mt, and 3,208 mt, respectively. Directed fishing for Pacific cod for processing by the offshore component in the Western Regulatory Area of the GOA was closed on February 7, 2000, and by the inshore component in the Western and Central Regulatory Areas of the GOA on March 4, 2000, under § 679.20(d)(1)(iii), in order to prevent exceeding the allocation for processing by the offshore and inshore components in these areas (65 FR 6561, February 10, 2000, and 65 FR 12137 and 12138, March 8, 2000).

The reserves of Pacific cod in the GOA were created by the Final 2000 Harvest Specifications for Groundfish of the GOA (65 FR 8298, February 18, 2000) as a management buffer to prevent exceeding the TACs and to provide greater assurance that Pacific cod could be retained as bycatch throughout the fishing year.

The Administrator, Alaska Region, NMFS, (Regional Administrator), has determined that the initial TAC for Pacific cod in the GOA needs to be supplemented from the Pacific cod reserve for the GOA in order to allow incidental catch of Pacific cod to be retained in other fisheries and to account for prior harvest. Therefore, in accordance with § 679.20(b)(3)(i)(A), NMFS is apportioning 11,743 mt of Pacific cod from the reserve to the TAC in the GOA: 4,125 mt in the Western, 6,816 mt in the Central, and 802 mt in the Eastern Regulatory Areas.

Pursuant to § 679.20(a)(6)(iii), the apportionment of the Pacific cod reserve in the GOA is allocated to vessels catching Pacific cod for processing by the inshore and offshore components as 90 percent and 10 percent of the TAC respectively. This action increases the total allocation of the 2000 Pacific cod TACs for vessels catching Pacific cod for processing by the inshore component to 18,563 mt, 30,672 mt, and 3,609 mt in the Western, Central, and Eastern Regulatory Areas respectively, and for the offshore component to 2,062 mt, 3,408 mt and 401 mt in the Western, Central, and Eastern Regulatory Areas respectively. In accordance with § 679.20(b)(3)(iii)(A), NMFS finds that there is good cause for not providing the public with a prior opportunity to comment. As of March 25, 2000, NMFS estimates the initial TACs of 14,850 mt and 24,538 mt allocated to the inshore component in the Western and the Central Regulatory Areas of the GOA have been reached and that the initial TAC of 1,650 mt allocated to the offshore component in the Western Regulatory Area of the GOA has been reached. This action is necessary to allow retention of amounts of Pacific cod that are caught incidentally while conducting directed fishing for other species in these areas.

Maximum retainable bycatch amounts may be found in the regulations at § 679.20(e) and (f).

Classification

This action responds to the initial TAC limitations for Pacific cod established in the Final 2000 Harvest Specifications for Groundfish in the GOA. This action will allow incidental catch of Pacific cod to be retained in other directed fisheries. The alternative is to prohibit retention of Pacific cod which is contrary to the FMP goals of providing the opportunity to more fully utilizing the available TACs and reducing discards. A delay in the effective date is impracticable and contrary to the public interest as it relieves a potential restriction. NMFS finds for good cause that the implementation of this action should not be delayed for 30 days. Accordingly, under 5 U.S.C 553(d), a delay in the effective date is hereby waived.

This action is required by 50 CFR 679.20 and is exempt from review under E.O. 12866.

Authority: 16 U.S.C. 1801 et seq.

Dated: April 13, 2000.
Bruce C. Morehead,
Acting Director, Office of Sustainable Fisheries, National Marine Fisheries Service.

[FR Doc. 00-9844 Filed 4-18-00; 8:45 am]

BILLING CODE 3510-22-F